DEPARTMENT OF HEALTH AND HUMAN SERVICES

National Institutes of Health

Office of the Director, Program on Biosecurity and Biosafety Policy; Notice of Meeting

Pursuant to section 10(a) of the Federal Advisory Committee Act, as amended (5 U.S.C. App.), notice is hereby given of the meeting of the National Science Advisory Board for Biosecurity (NSABB).

Name of Committee: National Science Advisory Board for Biosecurity.

Date: November 25, 2014.

Time: 11:00 a.m.-1:00 p.m. Eastern. The teleconference line will be open at 10:30 a.m. to allow for check-in with the operator. (Times are approximate and subject to change.)

Agenda: Discussion regarding: (1) Finalization of draft NSABB statement regarding gain-of-function research; and (2) other business of the Board. Time will be allotted on the agenda for oral public comment, with presentations limited to three minutes per speaker.

Place: National Institutes of Health, 6705 Rockledge Drive, Suite 750, Bethesda, Maryland. (Telephone Conference call only; No in-person meeting.)

Call-in Information: Toll-Free Number: 1-888-469-1981. Participant Passcode: NSABB. The line will be open 30 minutes in advance of the meeting to allow time for operator-assisted check-in.

Contact Person: Carolyn Mosby, NSABB Program Assistant, NIH Program on Biosecurity and Biosafety Policy, 6705 Rockledge Drive, Suite 750, Bethesda, Maryland 20892, (301) 435-5504, carolyn.mosby@nih.gov.

Under authority 42 U.S.C. 217a, Section 222 of the Public Health Service Act, as amended, the Department of Health and Human Services established the NSABB to provide advice regarding federal oversight of dual use research, defined as biological research that generates information and technologies that could be misused to pose a biological threat to public health and/or national security.

Please Note: The teleconference meeting agenda, draft statement, and other information about the NSABB will be available at http://osp.od.nih.gov/office-biotechnology-activities/biosecurity/nsabb. Please check this Web site for updates.

The meeting will be open to the public through a teleconference call phone number. Members of the public who participate in the teleconference will be able to listen to the meeting but will not be heard apart from during the public comment session. If you experience any technical problems with the conference call, please send an email to carolyn.mosby@nih.gov.

Public Comments: The teleconference will include opportunity for public comment. In addition, any interested person may file written comments with the committee via email to nsabb@od.nih.gov with “NSABB Public Comment” as the subject line or by regular mail to 6705 Rockledge Drive, Suite 750, Bethesda, MD 20892, Attention: Carolyn Mosby. Comments should include the name, address, telephone number and, when applicable, the business or professional affiliation of the commenter. Written comments received by 5:00 p.m. (Eastern) on Sunday November 23, 2014, will be provided to NSABB members prior to the teleconference.

Accommodations Statement: Individuals who participate by using this teleconference call service and who need special assistance such as captioning or other reasonable accommodations should submit a request to the Contact Person listed on this notice as soon as possible.

Dated: November 3, 2014.
David Clary,
Program Analyst, Office of Federal Advisory Committee Policy.

[FR Doc. 2014-26422 Filed 11-5-14; 8:45 am]

BILLING CODE 4140-01-P